DEPARTMENT OF ENERGY

Federal Energy Regulatory Commission

Combined Notice of Filings #1

Take notice that the Commission received the following electric rate filings:

Docket Numbers: ER10-2374-015; ER17-2059-009; EL22-57-000.

Applicants: Puget Sound Energy, Inc., Puget Sound Energy, Inc., Puget Sound Energy, Inc.

Description: Response to Order to Show Cause of Puget Sound Energy, Inc.

Filed Date: 8/12/22.

Accession Number: 20220812-5050.

Comment Date: 5 p.m. ET 9/23/22.

Docket Numbers: ER22-2314-001.

Applicants: Langdon Renewables, LLC.

Description: Tariff Amendment: Request to Defer Action on CFA (ER22-2314-) to be effective 9/7/2022.

Filed Date: 9/2/22.

Accession Number: 20220902-5062.

Comment Date: 5 p.m. ET 9/23/22.

Docket Numbers: ER22-2536-000.

Applicants: Kossuth County Wind, LLC.

Description: Amendment to July 29, 2022 Kossuth County Wind, LLC Application for Market-Based Rate Authorization.

Filed Date: 9/1/22.

Accession Number: 20220901-5311.

Comment Date: 5 p.m. ET 9/12/22.

Docket Numbers: ER22-2781-000.

Applicants: ITC Midwest LLC.

Description: § 205(d) Rate Filing: Filing of Sixth Amended and Restated Interconnection Agreement to be effective 11/2/2022.

Filed Date: 9/2/22.

Accession Number: 20220902-5037.

Comment Date: 5 p.m. ET 9/23/22.

Docket Numbers: ER22-2782-000.

Applicants: EcoGrove Wind LLC.

Description: § 205(d) Rate Filing: EcoGrove Wind LLC, Shared Facilities Agreement with High Point Solar to be effective 12/28/2021.

Filed Date: 9/2/22.

Accession Number: 20220902-5039.

Comment Date: 5 p.m. ET 9/23/22.

Docket Numbers: ER22-2782-000.

Applicants: EcoGrove Wind LLC.

Description: § 205(d) Rate Filing: EcoGrove Wind LLC, Shared Facilities Agreement with High Point Solar to be effective 12/28/2021.

Filed Date: 9/2/22.

Accession Number: 20220902-5040.

Comment Date: 5 p.m. ET 9/23/22.

Docket Numbers: ER22-2783-000.

Applicants: Southwestern Electric Power Company.

Description: § 205(d) Rate Filing: SWEPCO-Bentonville POD#7 (Sub I) Delivery Point Agreement to be effective 8/18/2022.

Filed Date: 9/2/22.

Accession Number: 20220902-5056.

Comment Date: 5 p.m. ET 9/23/22.

Docket Numbers: ER22-2784-000.

Applicants: MN8 Energy Marketing LLC.

Description: Compliance filing: Notice of Succession and Revised Market-Based Rate Tariff to be effective 9/3/2022.

Filed Date: 9/2/22.

Accession Number: 20220902-5061.

Comment Date: 5 p.m. ET 9/23/22.

Docket Numbers: ER22-2785-000.

Applicants: NorthWestern Corporation.

Description: § 205(d) Rate Filing: SA No. 921—Firm Point to Point Trans. Service with Clearwater Energy Resources to be effective 12/1/2022.

Filed Date: 9/2/22.

Accession Number: 20220902-5067.

Comment Date: 5 p.m. ET 9/23/22.

Docket Numbers: ER22-2786-000.

Applicants: California Independent System Operator Corporation.

Description: § 205(d) Rate Filing: 2022-09-02 EIM Entity Agreement—Western Area Power Admin to be effective 11/2/2022.

Filed Date: 9/2/22.

Accession Number: 20220902-5070.

Comment Date: 5 p.m. ET 9/23/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 2, 2022.
Debbie-Anne A. Reese,
Deputy Secretary.

[FR Doc. 2022-19478 Filed 9-8-22; 8:45 am]

BILLING CODE 6717-01-P